DEPARTMENT OF DEFENSE

Department of the Army

Availability of Patent Application for Exclusive License

AGENCY: Army Soldier and Biological Chemical Command (SBCCOM), U.S. Army, DoD.

ACTION: Notice.

SUMMARY: SBCCOM gives notice that it is contemplating the grant of an exclusive license in the United States and any applicable foreign country to practice the invention embodied in Patent Application Number 09/692,704 filed 10/19/00, entitled, “Method and Apparatus for Making Body Heating and Cooling Garments” to Columbus Apparel Associates, Inc., (CAA) having a place of business in Woburn, Massachusetts.

FOR FURTHER INFORMATION CONTACT: Mr. Robert Rosenkrans at U.S. Army Soldier and Biological Chemical Command, Kansas Street, Natick, MA 01760, Phone (508) 233-4928 or E-mail: Robert.Rosenkrans@natick.army.mil.

SUPPLEMENTARY INFORMATION: Any licenses granted shall comply with 35 U.S.C. 209 and 37 CFR part 404. The following Patent Application Number, Title and Filing date is provided:

Patent Application Number: 09/692,704

Title: Method and Apparatus for Making Body Heating and Cooling Garments.

Filing Date: October 19, 2000.

Gregory D. Showalter,
Army Federal Register Liaison Officer.

[FR Doc. 00-31325 Filed 12-7-00; 8:45 am]

BILLING CODE 3710-08-P